DEPARTMENT OF ENERGY

Federal Energy Regulatory Commission

[Project No. 12679-002]

ORPC Alaska, LLC; Notice of Technical Meeting To Discuss Information and Monitoring Needs for a License Application for a Pilot Project

May 19, 2009.

a. Type of Application: Draft License Application for Pilot Project.

b. Project No.: 12679-002.

c. Applicant: ORPC Alaska, LLC.

d. Name of Project: Cook Inlet Tidal Energy Pilot Project.

e. Location: The project would be located in upper Cook Inlet off the north shore of Fire Island in the boroughs of Anchorage and Matanuska-Susitna, Alaska. Three proposed alternatives for transmission line alignment would occupy varying amounts of federal lands on Fire Island administered by the U.S. Coast Guard and Federal Aviation Administration.

f. Filed Pursuant to: 18 CFR 5.3 of the Commission's regulations.

g. Applicant Contact: ORPC Alaska, LLC, 151 Martine Street, Suite 102-5C, Fall River, MA 02723; (813) 417-6660.

h. FERC Contact: Matt Cutlip, phone at (503) 552-2762; e-mail at matt.cutlip@ferc.gov.

i. Project Description: The proposed Cook Inlet Tidal Energy Pilot Project would be implemented in two phases. Phase 1 would occur in year 1 of the license and would consist of deployment of one OCGen module (module), containing 4 turbine-generator units with a combined capacity of 1 megawatt (MW). Phase 2 would occur in year 2 of the license and would consist of deployment of four additional modules each with a capacity of 1 MW, for a total capacity of 5 MW. The project would also consist of: (1) Underwater transmission cables from the modules to a shore station on Fire Island; (2) a transmission line connecting the shore station to an interconnection point on Fire Island; and (3) appurtenant facilities.

j. Licensing Process: On March 31, 2009, ORPC Alaska, LLC, (ORPC Alaska) filed a Notice of Intent and request for waivers of certain regulations of the Federal Energy Regulatory Commission's (Commission) Integrated Licensing Process to expedite processing of a license application for the Cook Inlet Tidal Energy Pilot Project. ORPC Alaska expects to file a license application for a pilot project with the Commission by March 31, 2010.

The purpose of this notice is to inform you of the opportunity to participate in the upcoming technical meeting that ORPC Alaska and the Commission staff will hold to discuss information and monitoring needs for the license application. All interested individuals, organizations, and agencies are invited to attend the meeting. The time and location of the meeting is as follows:

Meeting Schedule and Location

Monday, June 15, 2009, 1 p.m. (local time), Homewood Suites by Hilton, 101 West 48th Ave., Anchorage, AK 99503.

To help focus discussions, Commission staff encourages participants to review ORPC Alaska's Notice of Intent and draft license application and monitoring plans filed with the Commission on March 31, 2009. These materials are available for review at the Commission in the Public Reference Room or may be viewed on the Commission's Web site at http://www.ferc.gov using the “eLibrary” link. Enter the docket number P-12679 to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Meeting Objectives

At the technical meeting, Commission staff will focus the discussion on the information gaps that need to be addressed to ensure that sufficient information exists for the Commission to make a determination on whether the proposed project meets the criteria for a pilot project and for processing a license application for a pilot project once it is filed with the Commission.

Procedures

The meetings will be recorded by a stenographer and will become part of the formal record of the Commission proceeding on the project.

Kimberly D. Bose,
Secretary.

[FR Doc. E9-12212 Filed 5-26-09; 8:45 am]

BILLING CODE 6717-01-P